DEPARTMENT OF THE INTERIOR

Bureau of Land Management

[AZA 18465]

Notice of Proposed Withdrawal Extension and Opportunity for Public Meeting; Arizona

AGENCY: Bureau of Land Management, Interior.

ACTION: Notice.

SUMMARY: The Bureau of Prisons, Department of Justice, has filed an application to extend Public Land Order No. 6493 for a 20-year period. This order withdrew public land from surface entry and mining for sewage treatment, a water well, and a buffer zone for a Federal Correctional Institution located on adjacent land.

DATES: Comments and requests for a public meeting must be received by August 16, 2000.

ADDRESSES: Comments and meeting requests should be sent to the Facilities Manager, Federal Correctional Institution, 37900 North 45th Avenue, Phoenix, Az 85027-7003.

FOR FURTHER INFORMATION CONTACT: D.C. Henderson, Federal Correctional Institution, Phoenix, Arizona; 623-465-9757.

SUPPLEMENTARY INFORMATION: On May 2, 2000, the Bureau of Prisons filed an application to extend Public Land Order No. 6493 for a 20-year period. Public Land Order No. 6493 withdrew the following described land from settlement, sale, location, or entry under the general land laws, including the mining laws, subject to valid existing rights:

Gila and Salt River Meridian

T. 6 N., R. 2 E.,

Sec. 28, N½SW¼SW¼;

Sec. 29, E½SE¼NE¼, E½NE¼SE¼, and NE¼SE¼SE¼.

The area described contains 70 acres in Maricopa County.

All persons who wish to submit comments, suggestions, or objections in connection with the proposed withdrawal extension may present their views in writing, by the date specified above, to the Facilities Manager, Federal Correctional Institution, Phoenix, Arizona.

Notice is hereby given that an opportunity for a public meeting is afforded in connection with the proposed withdrawal extension. All interested persons who desire a public meeting for the purpose of being heard on the proposed withdrawal extension must submit a written request, by the date specified above, to the Facilities Manager, Federal Correctional Institution, Phoenix, Arizona. Upon determination by the authorized officer that a public meeting will be held, a notice of the time and place will be published in the Federal Register at least 30 days before the scheduled date of the meeting.

The application will be processed in accordance with the regulations set forth in 43 CFR 2300.

Dated: May 9, 2000.
Kelly Grissom,
Acting Deputy State Director, Resources Division.

[FR Doc. 00-12528 Filed 5-17-00; 8:45 am]

BILLING CODE 4410-05-P